DEPARTMENT OF ENERGY

Federal Energy Regulatory Commission

[Docket No. IC10-80-001]

Commission Information Collection Activities (FERC Form No. 80); Comment Request; Submitted for OMB Review

June 16, 2010.

AGENCY: Federal Energy Regulatory Commission.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission issued a Notice in the Federal Register (75 FR 19630, 4/15/2010) requesting public comments. FERC received no comments on the FERC Form No. 80 and has made this notation in its submission to OMB.

DATES: Comments on the collection of information are due by July 23, 2010.

ADDRESSES: Address comments on the collection of information to the Office of Management and Budget, Office of Information and Regulatory Affairs, Attention: Federal Energy Regulatory Commission Desk Officer. Comments to OMB should be filed electronically, c/o oira__submission@omb.eop.gov and include OMB Control Number 1902-0106 for reference. The Desk Officer may be reached by telephone at 202-395-4638.

A copy of the comments should also be sent to the Federal Energy Regulatory Commission and should refer to Docket No. IC10-80-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgment to the sender's e-mail address upon receipt of comments.

For paper filings, the comments should be submitted to the Federal Energy Regulatory Commission, Secretary of the Commission, 888 First Street, NE., Washington, DC 20426, and should refer to Docket No. IC10-80-001.

Users interested in receiving automatic notification of activity in FERC Docket Number IC10-80 may do so through eSubscription at http://www.ferc.gov/docs-filing/esubscription.asp. All comments may be viewed, printed or downloaded remotely via the Internet through FERC's homepage using the “eLibrary” link. For user assistance, contact ferconlinesupport@ferc.gov or toll-free at (866) 208-3676, or for TTY, contact (202) 502-8659.

FOR FURTHER INFORMATION CONTACT: Ellen Brown may be reached by e-mail at DataClearance@FERC.gov, by telephone at (202) 502-8663, and by fax at (202) 273-0873.

SUPPLEMENTARY INFORMATION: FERC requests comments on the FERC Form 80 (also known as “FERC-80”), “Licensed Hydropower Development Recreation Report” (OMB Control No. 1902-0106). The information collected on the FERC Form 80 is used by the Commission to implement the statutory provisions of sections 4(a), 10(a), 301(a), 304 and 309 of the Federal Power Act (FPA), 16 U.S.C. sections 797, 803, 825c & 8254. The authority for the Commission to collect this information comes from section 10(a) of the FPA which requires the Commission to be responsible for ensuring that hydro projects subject to its jurisdiction are consistent with the comprehensive development of the nation's waterways for recreation and other beneficial public uses. In the interest of fulfilling these objectives, the Commission expects licensees subject to its jurisdiction, to recognize the resources that are affected by their activities and to play a role in protecting such resources.

FERC Form 80 is a report on the use and development of recreational facilities at hydropower projects licensed by the Commission. Applications for amendments to licenses and/or changes in land rights frequently involve changes in resources available for recreation. Commission staff utilizes FERC Form 80 data when analyzing the adequacy of existing public recreational facilities and when processing and reviewing possible amendments to help determine the impact of such changes. In addition, the Commission's regional office staff uses the FERC Form 80 data when conducting inspections of licensed projects. The Commission's inspectors use the data in evaluating compliance with various license conditions and in identifying recreational facilities at hydropower projects.

The data required by FERC Form 80 are specified by Title 18 of the Code of Federal Regulations (CFR) under 18 CFR 8.11 and 141.14 (and are discussed at http://www.ferc.gov/docs-filing/forms.asp#80). The FERC Form 80 is collected once every six years. The last collection was due on April 1, 2009, for data compiled during the calendar year ending December 31, 2008. The next collection of the FERC Form 80 is due on April 1, 2015, with subsequent collections due every sixth year, for data compiled during the previous calendar year.

The current OMB clearance expires on 9/30/2010. With the next collection due in 2015, FERC Form 80 will not be collected during the requested upcoming three-year OMB clearance cycle. Because the requirements for Form 80 are contained in the Commission's regulations, FERC plans to submit FERC Form 80 to the Office of Management and Budget (OMB) for review, to ensure the OMB clearance remains continuous and current.

Updates and corrections to the instructions include:

▪ Reflecting the FERC preference for electronic filing

▪ Stating that paper filings, if any, should be submitted to FERC's Office of the Secretary ¹ (rather than the FERC Regional Office)

¹ Filings submitted to the FERC's Office of the Secretary (similar to other forms) will be available more quickly to both the public and staff, and the processing costs will be reduced.

▪ Providing the current contact information for both FERC and OMB.

▪ Indicating the need and timing for initial Form No. 80 filings, in accordance with 18 CFR 8.11(b).

The proposed updates to the general information, instructions, and title of Schedule 1 are attached. The remainder of the form, instructions, and glossary remain unchanged and are not attached.

Action: The Commission is requesting a three-year extension of the FERC Form 80 reporting requirements, with the indicated updates and corrections to the general and identifying instructions. These updates do not affect the data collected or regulations, which are not being revised.

Burden Statement: For the collection cycle, which occurs every sixth year, the estimated public reporting burden is: (a) 400 respondents, (b) 1 response/respondent, and (c) 3 hours per response, giving a total of 1,200 burden hours. The estimated annual total burden and cost (provided below) are averaged over the six-year collection cycle.

FERC-80 | Number of respondents | Average number of reponses per respondent | Average burden hours per response | Total burden hours *
| (1) | (2) | (3) | (1) x (2) x (3)
Annual, estimates—*Note: Total burden hours are averaged and spread over the 6-year collection cycle | 400 | 1 | 3 | For one 6-year collection cycle, 1,200.
* For annual estimate, 1,200/6 = 200.

The total estimated annual cost burden to respondents (spread over the 6-year collection cycle) is $13,257.11 (200 hours/2,080 hours ² per year, times $137,874 ³).

² Each year, an employee works an estimated 2,080 hours.

³ Estimated average annual cost per employee is $137,874.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g., permitting electronic submission of responses.

Kimberly D. Bose,
Secretary.

[FR Doc. 2010-15140 Filed 6-22-10; 8:45 am]

BILLING CODE 6717-01-P